DEPARTMENT OF COMMERCE

International Trade Administration

[C-570-931]

Continuation of Countervailing Duty Order: Circular Welded Austenitic Stainless Pressure Pipe From the People's Republic of China

AGENCY: Enforcement and Compliance, International Trade Administration, Department of Commerce.

SUMMARY: As a result of the determinations by the Department of Commerce (the “Department”) the International Trade Commission (the “ITC”) that revocation of the countervailing duty (“CVD”) order on circular welded stainless pressure pipe from the People's Republic of China (“PRC”) would likely lead to continuation or recurrence of a countervailable subsidy and material injury to an industry in the United States, the Department is publishing this notice of the continuation of this CVD order.

DATES: Effective Date: August 12, 2014.

FOR FURTHER INFORMATION CONTACT: Eric Greynolds (CVD order), AD/CVD Operations, Office III, Enforcement and Compliance, International Trade Administration, U.S. Department of Commerce, 14th Street & Constitution Avenue NW., Washington, DC 20230; telephone: (202) 482-6071.

SUPPLEMENTARY INFORMATION:

Background

On February 3, 2014, the Department published the notice of initiation of the first sunset review of the CVD order on circular welded pressure pipe from the PRC, pursuant to section 751(c) of the Tariff Act of 1930, as amended (the “Act”).¹ As a result of its review, the Department determined that revocation of the CVD order on circular welded pressure pipe from the PRC would likely lead to continuation or recurrence of subsidization and notified the ITC of the subsidy rates likely to prevail should the order be revoked.² On July 14, 2014, the ITC published its determination, pursuant to section 751(c) of the Act, that revocation of the CVD order on circular welded pressure pipe from the PRC would likely lead to a continuation or recurrence of material injury to an industry in the United States within a reasonably foreseeable time.³

¹ See Initiation of Five-Year (“Sunset”) Review, 79 FR 6163 (February 3, 2014).

² See Circular Welded Austenitic Stainless Pressure Pipe from the People's Republic of China: Final Results of the Expedited Sunset Review of the Countervailing Duty Order, 79 FR 32911 (June 9, 2014).

³ See Welded Stainless Pressure Pipe From China, 79 FR 40779 (July 14, 2014).

Scope of the Order

The merchandise covered by this CVD order is circular welded austenitic stainless pressure pipe not greater than 14 inches in outside diameter. This merchandise includes, but is not limited to, the American Society for Testing and Materials (“ASTM”) A-312 or ASTM A-778 specifications, or comparable domestic or foreign specifications. ASTM A-358 products are only included when they are produced to meet ASTM A-312 or ASTM A-778 specifications, or comparable domestic or foreign specifications.

Excluded from the scope are: (1) Welded stainless mechanical tubing, meeting ASTM A-554 or comparable domestic or foreign specifications; (2) boiler, heat exchanger, superheater, refining furnace, feedwater heater, and condenser tubing, meeting ASTM A-249, ASTM A-688 or comparable domestic or foreign specifications; and (3) specialized tubing, meeting ASTM A-269, ASTM A-270 or comparable domestic or foreign specifications.

The subject imports are normally classified in subheadings 7306.40.5005, 7306.40.5040, 7306.40.5062, 7306.40.5064, and 7306.40.5085 of the Harmonized Tariff Schedule of the United States (“HTSUS”). They may also enter under HTSUS subheadings 7306.40.1010, 7306.40.1015, 7306.40.5042, 7306.40.5044, 7306.40.5080, and 7306.40.5090. The HTSUS subheadings are provided for convenience and customs purposes only; the written description of the scope is dispositive.

Continuation of the Order

As a result of the determinations by the Department and the ITC that revocation of this CVD order would likely lead to continuation or recurrence of a countervailable subsidy and material injury to an industry in the United States, pursuant to section 751(d)(2) of the Act, the Department hereby orders the continuation of the CVD order on circular welded austenitic stainless pressure pipe. U.S. Customs and Border Protection will continue to collect cash deposits at the rates in effect at the time of entry for all imports of subject merchandise. The effective date of the continuation of this order is the date of publication in the Federal Register of this Notice of Continuation.

Pursuant to sections 751(c)(2) of the Act, the Department intends to initiate the next five-year review of these finding/orders not later than 30 days prior to the fifth anniversary of the effective date of this continuation.

This five-year (sunset) review and notice are in accordance with section 751(c) of the Act and published pursuant to section 777(i)(1) of the Act and 19 CFR 351.218(f)(4).

Dated: July 31, 2014.
Paul Piquado,
Assistant Secretary for Enforcement and Compliance.

[FR Doc. 2014-18706 Filed 8-11-14; 8:45 am]

BILLING CODE 3510-DS-P